DEPARTMENT OF ENERGY

Federal Energy Regulatory Commission

Combined Notice of Filings

Take notice that the Commission has received the following Natural Gas Pipeline Rate and Refund Report filings:

Filings Instituting Proceedings

Docket Numbers: PR24-15-000.

Applicants: Columbia Gas of Pennsylvania.

Description: § 284.123 Rate Filing: Columbia Gas of Pennsylvania, Inc. Statement of Operating Conditions to be effective 11/29/2023.

Filed Date: 11/29/23.

Accession Number: 20231129-5132.

Comment Date: 5 p.m. ET 12/20/23.

Docket Numbers: PR24-16-000.

Applicants: Columbia Gas of Virginia Inc.

Description: § 284.123 Rate Filing: Columbia Gas of Virginia, Inc. Statement of Operating Conditions to be effective 11/29/2023.

Filed Date: 11/29/23.

Accession Number: 20231129-5134.

Comment Date: 5 p.m. ET 12/20/23.

Docket Numbers: PR24-17-000.

Applicants: Southern California Gas Company.

Description: § 284.123(g) Rate Filing: Offshore Delivery Service Rate Revision November 2023 to be effective 11/1/2023.

Filed Date: 11/29/23.

Accession Number: 20231129-5151.

Comment Date: 5 p.m. ET 12/20/23.

§ 284.123(g) Protest: 5 p.m. ET 1/29/24.

Docket Numbers: RP24-181-000.

Applicants: El Paso Natural Gas Company, L.L.C.

Description: § 4(d) Rate Filing: Non-Conforming Agreement Filing (ASARCO) to be effective 1/1/2024.

Filed Date: 11/29/23.

Accession Number: 20231129-5125.

Comment Date: 5 p.m. ET 12/11/23.

Docket Numbers: RP24-182-000.

Applicants: El Paso Natural Gas Company, L.L.C.

Description: § 4(d) Rate Filing: Negotiated Rate Agreements Update (Red Willow_Sempra) to be effective 1/1/2024.

Filed Date: 11/29/23.

Accession Number: 20231129-5129.

Comment Date: 5 p.m. ET 12/11/23.

Docket Numbers: RP24-183-000.

Applicants: Equitrans, L.P.

Description: § 4(d) Rate Filing: Negotiated Rate Agreement—12/1/2023 to be effective 12/1/2023.

Filed Date: 11/30/23.

Accession Number: 20231130-5024.

Comment Date: 5 p.m. ET 12/12/23.

Docket Numbers: RP24-184-000.

Applicants: Gulf South Pipeline Company, LLC.

Description: § 4(d) Rate Filing: Remove Expired Agreements eff 11-30-2023 to be effective 11/30/2023.

Filed Date: 11/30/23.

Accession Number: 20231130-5047.

Comment Date: 5 p.m. ET 12/12/23.

Docket Numbers: RP24-185-000.

Applicants: Texas Gas Transmission, LLC.

Description: § 4(d) Rate Filing: Housekeeping Filing for Agreements Volume and Volume 1 Tariff eff 11-30-23 to be effective 11/30/2023.

Filed Date: 11/30/23.

Accession Number: 20231130-5048.

Comment Date: 5 p.m. ET 12/12/23.

Docket Numbers: RP24-186-000.

Applicants: Kern River Gas Transmission Company.

Description: § 4(d) Rate Filing: 2023 Leap Year Rate Filing to be effective 1/1/2024.

Filed Date: 11/30/23.

Accession Number: 20231130-5056.

Comment Date: 5 p.m. ET 12/12/23.

Docket Numbers: RP24-187-000.

Applicants: Kern River Gas Transmission Company.

Description: § 4(d) Rate Filing: 2023 Special Pool Filing to be effective 1/1/2024.

Filed Date: 11/30/23.

Accession Number: 20231130-5057.

Comment Date: 5 p.m. ET 12/12/23.

Docket Numbers: RP24-188-000.

Applicants: Alliance Pipeline L.P.

Description: § 4(d) Rate Filing: Negotiated Rates—Various Dec 1 2023 Releases to be effective 12/1/2023.

Filed Date: 11/30/23.

Accession Number: 20231130-5086.

Comment Date: 5 p.m. ET 12/12/23.

Docket Numbers: RP24-189-000.

Applicants: El Paso Natural Gas Company, L.L.C.

Description: § 4(d) Rate Filing: Negotiated Rate Agreements Filing (TMV and EcoEnergy) to be effective 12/1/2023.

Filed Date: 11/30/23.

Accession Number: 20231130-5091.

Comment Date: 5 p.m. ET 12/12/23.

Docket Numbers: RP24-190-000.

Applicants: Colorado Interstate Gas Company, L.L.C.

Description: § 4(d) Rate Filing: CIG Qtrly LUF True-up Nov 2023 to be effective 1/1/2024.

Filed Date: 11/30/23.

Accession Number: 20231130-5101.

Comment Date: 5 p.m. ET 12/12/23.

Docket Numbers: RP24-191-000.

Applicants: Northern Natural Gas Company.

Description: § 4(d) Rate Filing: 20231130 Negotiated Rate to be effective 12/1/2023.

Filed Date: 11/30/23.

Accession Number: 20231130-5102.

Comment Date: 5 p.m. ET 12/12/23.

Docket Numbers: RP24-192-000.

Applicants: Kinder Morgan Louisiana Pipeline LLC.

Description: § 4(d) Rate Filing: Periodic Rate Adjustment—Fuel and L&U Retention Percentages December 2023 to be effective 1/1/2024.

Filed Date: 11/30/23.

Accession Number: 20231130-5105.

Comment Date: 5 p.m. ET 12/12/23.

Docket Numbers: RP24-193-000.

Applicants: El Paso Natural Gas Company, L.L.C.

Description: § 4(d) Rate Filing: Annual Fuel and L&U Filing 2024 to be effective 1/1/2024.

Filed Date: 11/30/23.

Accession Number: 20231130-5108.

Comment Date: 5 p.m. ET 12/12/23.

Docket Numbers: RP24-194-000.

Applicants: El Paso Natural Gas Company, L.L.C.

Description: § 4(d) Rate Filing: Negotiated Rate Update (Hartree 615843_610670_614700 Dec 2023) to be effective 12/1/2023.

Filed Date: 11/30/23.

Accession Number: 20231130-5110.

Comment Date: 5 p.m. ET 12/12/23.

Docket Numbers: RP24-195-000.

Applicants: Maritimes & Northeast Pipeline, L.L.C.

Description: § 4(d) Rate Filing: Negotiated Rates—Northern to NRG Business 3049 eff 12-1-23 to be effective 12/1/2023.

Filed Date: 11/30/23.

Accession Number: 20231130-5135.

Comment Date: 5 p.m. ET 12/12/23.

Docket Numbers: RP24-196-000.

Applicants: Texas Eastern Transmission, LP.

Description: § 4(d) Rate Filing: Negotiated Rates—Various Releases eff 12-1-23 to be effective 12/1/2023.

Filed Date: 11/30/23.

Accession Number: 20231130-5145.

Comment Date: 5 p.m. ET 12/12/23.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

Filings in Existing Proceedings

Docket Numbers: RP19-78-012

Applicants: Panhandle Eastern Pipe Line Company, LP

Description: Refund Report: RP19-78-000 Refund Report to be effective N/A.

Filed Date: 11/30/23

Accession Number: 20231130-5066

Comment Date: 5 p.m. ET 12/12/23.

Docket Numbers: RP24-158-001

Applicants: Midwestern Gas Transmission Company

Description: Tariff Amendment: Amendment to Tariff Part 5.0 Metadata Correction to be effective 11/1/2023.

Filed Date: 11/30/23

Accession Number: 20231130-5001

Comment Date: 5 p.m. ET 12/12/23.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: November 30, 2023.
Kimberly D. Bose,
Secretary.

[FR Doc. 2023-26763 Filed 12-5-23; 8:45 am]

BILLING CODE 6717-01-P